DEPARTMENT OF HOMELAND SECURITY

Federal Emergency Management Agency

44 CFR Part 67

[Docket No. FEMA-B-7728 and FEMA-D-7812]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Crawford County, Arkansas, and Incorporated Areas
Louemma Creek | At the intersection of Northhills Blvd | +460 | +459 | City of Van Buren.
| At the intersection with Rena Road | +486 | +487
Town Branch | Intersection with 20th St. | +421 | +420 | City of Van Buren.
| Intersection with Alma | +441 | +445
* National Geodetic Vertical Datum.
+ North American Vertical Datum.
# Depth in feet above ground.
ADDRESSES
City of Van Buren
Maps are available for inspection at 1003 Broadway, Van Buren, AR 72956.
Send comments to The Honorable Bob Freeman, Mayor, 1003 Broadway, Van Buren, AR 72956.
Davie County, North Carolina and Incorporated Areas
Baxter Creek | At the confluence with Bear Creek | None | +680 | Unincorporated Areas of Davie County.
| Approximately 1.1 miles upstream of the confluence with Bear Creek | None | +692
Bear Creek | At the confluence with South Yadkin River | None | +671 | Unincorporated Areas of Davie County, Town of Mocksville.
| Approximately 310 feet downstream of Duke Whittaker Road (State Road 1316) | None | +811
Tributary 1 | At the confluence with Bear Creek | None | +688 | Unincorporated Areas of Davie County.
| Approximately 580 feet upstream of Railroad | None | +698
Tributary 2 | At the confluence with Bear Creek | None | +700 | Unincorporated Areas of Davie County, Town of Mocksville.
| Approximately 740 feet upstream of South Davie Drive | None | +769
Tributary 3 | At the confluence with Bear Creek | None | +708 | Unincorporated Areas of Davie County, Town of Mocksville.
| Approximately 860 feet upstream of Valley Road | None | +763
Tributary 3A | At the confluence with Bear Creek Tributary 3 | None | +715 | Unincorporated Areas of Davie County, Town of Mocksville.
| Approximately 0.5 mile upstream of the confluence of Bear Creek Tributary 3 | None | +743
Tributary 4 | At the confluence with Bear Creek | None | +711 | Unincorporated Areas of Davie County, Town of Mocksville.
| Approximately 240 feet upstream of U.S. 64 Highway W | None | +735
Tributary 5 | At the confluence with Bear Creek | None | +767 | Unincorporated Areas of Davie County.
| Approximately 410 feet upstream of Ralph Ratledge Road (State Road 1312) | None | +776
Beaver Creek | At the confluence with Hunting Creek | None | +702 | Unincorporated Areas of Davie County.
| Approximately 90 feet downstream of Castle Lane | None | +731
Tributary 1 | At the confluence with Beaver Creek | None | +703 | Unincorporated Areas of Davie County.
| Approximately 0.6 mile upstream of U.S. 64 Highway W | None | +738
Becks Spring Branch | At the confluence with Dutchman Creek | None | +699 | Unincorporated Areas of Davie County.
| Approximately 0.6 mile upstream of Eatons Church Road (State Road 1415) | None | +726
Bryant Branch | At the confluence with Dutchman Creek | None | +690 | Unincorporated Areas of Davie County.
| Approximately 120 feet upstream of Lutz Lane | None | +715
Buffalo Creek | At the confluence with Dutchman Creek | None | +669 | Unincorporated Areas of Davie County.
| Approximately 1.2 miles upstream of Milling Road | None | +690
Cain Mill Branch | At the confluence with Steelman Creek | None | +795 | Unincorporated Areas of Davie County.
| At the Davie/Yadkin County boundary | None | +795
Carter Creek | At the confluence with Yadkin River | +700 | +692 | Unincorporated Areas of Davie County.
| At NC 801 | +700 | +699
Tributary | At the confluence with Carter Creek | +700 | +692 | Unincorporated Areas of Davie County.
| Approximately 0.7 mile upstream of the confluence with Carter Creek | +700 | +698
Cedar Creek | At the confluence with Dutchman Creek | None | +673 | Unincorporated Areas of Davie County.
| Approximately 2.4 miles upstream of Wyo Road (State Road 1430) | None | +784
Chinquapin Creek | At the confluence with Dutchman Creek | None | +729 | Unincorporated Areas of Davie County.
| At the Davie/Yadkin County boundary | None | +788
Cody Creek | The confluence with the Yadkin River | None | +658 | Unincorporated Areas of Davie County.
| Approximately 0.5 mile upstream of NC 801 | None | +709
Cub Creek | At the confluence with Cedar Creek | None | +674 | Unincorporated Areas of Davie County.
| Approximately 1.0 mile upstream of the confluence with Cedar Creek | None | +687
Dry Branch | At the confluence with Dutchman Creek | None | +737 | Unincorporated Areas of Davie County.
| Approximately 0.7 mile upstream of Chinquapin Road | None | +781
Dutchman Creek | At the confluence with the Yadkin River | None | +661 | Unincorporated Areas of Davie County.
| Approximately 0.4 mile upstream of Amber Hill Road (State Road 1325) | None | +811
Tributary 2 | At the confluence with Dutchman Creek | None | +661 | Unincorporated Areas of Davie County.
| Approximately 0.6 mile upstream of NC 801 | None | +681
Tributary 3 | At the confluence with Dutchman Creek | None | +661 | Unincorporated Areas of Davie County.
| Approximately 1.2 miles upstream of Frank Short Road | None | +705
Tributary 4 | At the confluence with Dutchman Creek | None | +683 | Unincorporated Areas of Davie County.
| Approximately 640 feet upstream of Woodward Road (State Road 1407) | None | +695
Tributary 5 | At the confluence with Dutchman Creek | None | +776 | Unincorporated Areas of Davie County.
| Approximately 1.0 mile upstream of Ben Anderson Road (State Road 1321) | None | +800
Tributary 6 | At the confluence with Dutchman Creek | None | +784 | Unincorporated Areas of Davie County.
| Approximately 300 feet upstream of Davie/Iredell County boundary | None | +822
Elisha Creek | At the confluence with Dutchman Creek | None | +667 | Unincorporated Areas of Davie County, Town of Mocksville.
| Approximately 1,560 feet upstream of the confluence of Elisha Creek Tributary | None | +712
Tributary | At the confluence with Elisha Creek | None | +706 | Unincorporated Areas of Davie County, Town of Mocksville.
| Approximately 0.8 mile upstream of the confluence with Elisha Creek | None | +719
Elsworth Creek | At the confluence with Dutchman Creek | None | +664 | Unincorporated Areas of Davie County.
| Approximately 1.2 miles upstream of Williams Road (State Road 1610) | None | +699
Frost Mill Creek | At the confluence with Dutchman Creek | None | +688 | Unincorporated Areas of Davie County.
| Approximately 0.4 mile upstream of Cana Road (State Road 1408) | None | +744
Fulton Creek | At the confluence with the Yadkin River | None | +677 | Unincorporated Areas of Davie County.
| Approximately 1,080 feet upstream of Markland Road (State Road 1618) | None | +714
Greasy Creek | At the confluence with Dutchman Creek | None | +699 | Unincorporated Areas of Davie County.
| Approximately 2.0 miles upstream of Eatons Church Road (State Road 1415) | None | +757
Hauser Creek | Approximately 100 feet downstream of the Davie/Yadkin County boundary | None | +711 | Unincorporated Areas of Davie County.
| Approximately 0.7 mile upstream of Spillman Road (State Road 1458) | None | +725
Howard Branch | At the confluence with Dutchman Creek | None | +730 | Unincorporated Areas of Davie County.
| Approximately 1.3 miles upstream of Jack Booe Road (State Road 1330) | None | +772
Humpy Creek | At the confluence with Dutchman Creek | None | +661 | Unincorporated Areas of Davie County.
| Approximately 680 feet upstream of Riverview Road (State Road 1814) | None | +686
Hunting Creek | At the confluence with South Yadkin River | None | +674 | Unincorporated Areas of Davie County.
| At the Davie/Iredell County boundary | None | +724
Tributary 1 | At the confluence with Hunting Creek | None | +690 | Unincorporated Areas of Davie County.
| Approximately 140 feet downstream of Godbey Road (State Road 1150) | None | +707
Tributary 1A | At the confluence with Hunting Creek Tributary 1 | None | +690 | Unincorporated Areas of Davie County.
| Approximately 1,420 feet upstream of I-40 Highway W | None | +701
Tributary 2 | At the confluence with Hunting Creek | None | +715 | Unincorporated Areas of Davie County.
| Approximately 0.4 mile upstream of County Line Road (State Road 1338) | None | +752
Tributary 3 | At the confluence with Hunting Creek | None | +719 | Unincorporated Areas of Davie County.
| Approximately 0.8 mile upstream of the confluence with Hunting Creek | None | +731
Leonard Creek | At the confluence with Dutchman Creek | None | +666 | Unincorporated Areas of Davie County, Town of Mocksville.
| Approximately 1,610 feet upstream of the confluence of Leonard Creek Tributary 1 | None | +698
Tributary 1 | At the confluence with Leonard Creek | None | +689 | Unincorporated Areas of Davie County, Town of Mocksville.
| Approximately 500 feet upstream of the confluence of Leonard Creek Tributary 1B | None | +739
Tributary 1A | At the confluence with Leonard Creek Tributary 1 | None | +701 | Unincorporated Areas of Davie County, Town of Mocksville.
| Approximately 0.8 mile upstream of the confluence with Leonard Creek Tributary 1 | None | +725
Little Bear Creek | At the confluence with Bear Creek | None | +739 | Unincorporated Areas of Davie County.
| Approximately 700 feet downstream of Black Welder Road (State Road 1309) | None | +798
Little Creek (North) | At the confluence with South Yadkin River | None | +682 | Unincorporated Areas of Davie County.
| Approximately 100 feet upstream of the Davie/Iredell County boundary | None | +799
Little Creek Tributary 1 | At the confluence with Little Creek (North) | None | +750 | Unincorporated Areas of Davie County.
| Approximately 640 feet upstream of Crescent Drive (State Road 1157) | None | +760
Nelson Creek | At the confluence with Elisha Creek | None | +693 | Unincorporated Areas of Davie County, Town of Mocksville.
| Approximately 0.5 mile upstream of the confluence of Nelson Creek Tributary 1 | None | +740
Tributary 1 | At the confluence with Nelson Creek | None | +723 | Town of Mocksville.
| Approximately 660 feet upstream of Park Avenue | None | +758
Tributary 1A | At the confluence with Nelson Creek Tributary 1 | None | +726 | Town of Mocksville.
| Approximately 1,260 feet upstream of the confluence with Nelson Creek Tributary 1 | None | +752
No Creek | At the confluence with Dutchman Creek | None | +661 | Unincorporated Areas of Davie County.
| Approximately 0.5 mile upstream of U.S. Highway 64 | None | +689
Noland Creek | At the confluence with Dutchman Creek | None | +675 | Unincorporated Areas of Davie County.
| Approximately 1,430 feet upstream of McClamrock Road (State Road 1640) | None | +687
Tributary 1 | At the confluence with Noland Creek | None | +676 | Unincorporated Areas of Davie County.
| Approximately 0.4 mile upstream of McClamrock Road | None | +695
Peeler Creek | At the confluence with Cody Creek | None | +658 | Unincorporated Areas of Davie County.
| Approximately 0.6 mile upstream of Will Boone Road (State Road 1802) | None | +696
Peoples Creek | At the confluence with the Yadkin River | None | +684 | Unincorporated Areas of Davie County.
| Approximately 1.5 miles upstream of Palomino Road | None | +770
Reedy Creek | At the confluence with the Yadkin River | None | +653 | Unincorporated Areas of Davie County.
| Approximately 400 feet downstream of Cherry Hill Road (State Road 1819) | None | +671
Sheek Creek | At the confluence with the Yadkin River | None | +702 | Unincorporated Areas of Davie County, Town of Bermuda Run.
| Approximately 1,640 feet upstream of Double A Trail | None | +722
Smith Creek | Approximately 1,000 feet upstream of Kingsmill Drive | +701 | +700 | Unincorporated Areas of Davie County, Town of Bermuda Run.
| Approximately 1,510 feet upstream of I-40 Highway W | None | +746
South Yadkin River | At the confluence with Yadkin River | None | +648 | Unincorporated Areas of Davie County, Town of Cooleemee.
| Approximately 400 feet upstream of the Rowan/Davie/Iredell County boundary | None | +698
Tributary 1 | At the confluence with South Yadkin River | None | +656 | Unincorporated Areas of Davie County.
| Approximately 0.7 mile upstream of the confluence with South Yadkin River | None | +669
Tributary 2 | At the confluence with South Yadkin River | None | +656 | Unincorporated Areas of Davie County.
| Approximately 2,000 feet upstream of the confluence of South Yadkin River Tributary 2B | None | +656
Tributary 2A | At the confluence with South Yadkin River Tributary 2 | None | +656 | Unincorporated Areas of Davie County.
| Approximately 1,590 feet downstream of Pine Ridge Road (State Road 1103) | None | +656
Tributary 2B | At the confluence with South Yadkin River Tributary 2 | None | +656 | Unincorporated Areas of Davie County.
| Approximately 0.4 mile upstream of the confluence with South Yadkin River Tributary 2 | None | +660
Tributary 3 | At the confluence with South Yadkin River | None | +690 | Unincorporated Areas of Davie County.
| Approximately 0.6 mile upstream of the confluence with South Yadkin River | None | +691
Tributary 4 | At the confluence with South Yadkin River | None | +693 | Unincorporated Areas of Davie County.
| Approximately 0.5 mile upstream of the confluence with South Yadkin River | None | +695
Steelman Creek | At the confluence with Dutchman Creek | None | +740 | Unincorporated Areas of Davie County.
| Approximately 0.4 mile upstream of the confluence of Cain Mill Branch | None | +769
Sugar Creek | At the confluence with Cedar Creek | None | +681 | Unincorporated Areas of Davie County.
| Approximately 370 feet upstream of Bobbit Road (State Road 1444) | None | +742
Tributary 1 | At the confluence with Sugar Creek | None | +729 | Unincorporated Areas of Davie County.
| Approximately 80 feet downstream of Rainbow Road (State Road 1441) | None | +737
Yadkin River | Approximately 1,200 feet downstream of the confluence of South Yadkin River | None | +648 | Unincorporated Areas of Davie County, Town of Bermuda Run.
| Approximately 1,500 feet upstream of the Forsyth/Davie/Yadkin County boundary | None | +711
Tributary 1 | At the confluence with the Yadkin River | None | +678 | Unincorporated Areas of Davie County.
| Approximately 780 feet upstream of Todd Road (State Road 1645) | None | +678
Tributary 3 | At the confluence with Yadkin River | +704 | +695 | Town of Bermuda Run.
| Approximately 450 feet upstream of Bridge Street | None | +703
* National Geodetic Vertical Datum.
+ North American Vertical Datum.
# Depth in feet above ground.
ADDRESSES
Town of Bermuda Run
Maps are available for inspection at Bermuda Run Town Hall, 169 Yadkins Valley Road, Suite 100, Advance, North Carolina.
Send comments to The Honorable John Ferguson, Mayor of the Town of Bermuda Run, 169 Yadkins Valley Road, Suite 100, Advance, North Carolina 27006.
Town of Cooleemee
Maps are available for inspection at Davie County Courthouse, 140 South Main Street, Mocksville, North Carolina.
Send comments to The Honorable John Chandler, Mayor of the Town of Cooleemee, P.O. Box 1080, Cooleemee, North Carolina 27014.
Town of Mocksville
Maps are available for inspection at Mocksville Town Hall, 171 Clement Street, Mocksville, North Carolina.
Send comments to The Honorable Francis Slate, Mayor of the Town of Mocksville, 171 Clement Street, Mocksville, North Carolina 27028.
Unincorporated Areas of Davie County
Maps are available for inspection at Davie County Development Services, 172 Clement Street, Mocksville, North Carolina.
Send comments to Mr. Terry Bralley, Davie County Manager, 172 Clement Street, Mocksville, North Carolina 27028.
Orange County, North Carolina, and Incorporated Areas
Dry Branch | At the confluence with New Hope Creek Tributary 1 | +285 | +286 | Town of Chapel Hill.
| Approximately 870 feet upstream of Silver Creek Trail | None | +397
* National Geodetic Vertical Datum.
+ North American Vertical Datum.
# Depth in feet above ground.
ADDRESSES
Town of Chapel Hill
Maps are available for inspection at Chapel Hill Town Hall, Stormwater Management Program Office, 209 North Columbia Street, Chapel Hill, North Carolina.
Send comments to The Honorable Kevin C. Foy, Mayor of the Town of Chapel Hill, 405 Martin Luther King Jr. Boulevard, Chapel Hill, North Carolina 27514.

(Catalog of Federal Domestic Assistance No. 97.022, “Flood Insurance.”)

Dated: July 26, 2007.
David I. Maurstad,
Federal Insurance Administrator of the National Flood Insurance Program, Department of Homeland Security, Federal Emergency Management Agency.

[FR Doc. E7-15427 Filed 8-7-07; 8:45 am]

BILLING CODE 9110-12-P